DEPARTMENT OF EDUCATION

[CFDA No.: 84.359B]

Early Reading First Program

AGENCY: Department of Education.

ACTION: Notice extending Full Application deadline date for Early Reading First Program for fiscal year (FY) 2002.

SUMMARY: The Secretary extends the deadline date for the submission of Full Applications by certain applicants (see the “Eligibility” section of this notice) under the Early Reading First Program discretionary grant competition for FY 2002. The Secretary takes this action to allow more time for the preparation and submission of applications by potential applicants and their partners in the State of Louisiana that were adversely affected by severe weather conditions resulting from Hurricane Lili. This extension is intended to help these potential applicants and their partners compete fairly with other applicants.

Eligibility: The extension of the deadline date in this notice applies to you if (1) You are an eligible applicant for the Full Application phase of the Early Reading First grant competition for FY 2002, and (2) you or one of your official partners is located in one of the areas of Louisiana listed below that the President has declared a disaster area as a result of Hurricane Lili.

Potential eligible applicants for Early Reading First for the purpose of this notice are defined as those eligible applicants who submitted Pre-Applications and that were invited by the Secretary (through the Office of Elementary and Secondary Education) to submit Full Applications.

The areas of Louisiana affected include the following cites, counties, or parishes: Acadia, Ascension, Assumption, Avoyelles, Beauregard, Calcasieu Cameron East Baton Rouge, Evangeline, Iberia, Iberville, Jefferson Davis, Jefferson, Lafayette, Lafourche, Livingston, Natchitoches, Orleans, Plaquemines, Pointe Coupee, Rapides, St. Bernard, St. Charles, St. James, St. John the Baptist, St. Landry, St. Martin, St. Mary, St. Tammany, Tangipahoa, Terrebonne, Vermillion, Washington, and West Baton Rouge.

DATES: The new deadline date for receipt of Full Applications under the Early Reading First Program from applicants eligible for this extension is October 18, 2002. If you or a courier or delivery service delivers an application by hand, the deadline on October 18 is 4:30 p.m. For applicants in the above Louisiana areas only, this deadline replaces the original October 11, 2002 receipt deadline for Full Applications. All other instructions for transmitting applications in the Early Reading First application package (pp. E-3 and E-4) remain in effect. The deadline date for the transmittal of State process recommendations by State Single Points of Contact (SPOCs) and comments by other interested parties remains as originally posted.

The invitation to submit applications was originally published in the Federal Register on June 7, 2002 (67 FR 39369-39374).

FOR FURTHER INFORMATION CONTACT: Tracy Bethel or Mary Ann Lesiak, Office of Elementary and Secondary Education, 400 Maryland Avenue SW., Washington, DC 20202-6132. Telephone: (202) 260-4555, or via Internet: erf@ed.gov. Applications for, and information about, the Early Reading First program competition are available here: http://www.ed.gov/offices/OESE/earlyreading/index.html.

If you use a telecommunications device for the deaf (TDD), you may call the Federal Information Relay Service (FIRS) at 1-800-877-8339.

If you want to transmit a recommendation or comment under Executive Order 12372, you can find the latest list and addresses of individual SPOCs on the Web site of the Office of Management and Budget at the following address: http://www.whitehouse.gov/omb/grants.

If you are an individual with a disability, you may obtain this document in an alternative format (e.g., Braille, large print, audiotape, or computer diskette) on request to either of the contact persons listed in this notice.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: October 8, 2002.
Susan B. Neuman,
Assistant Secretary for Elementary and Secondary Education.

[FR Doc. 02-26048 Filed 10-10-02; 8:45 am]

BILLING CODE 4000-01-P